DEPARTMENT OF COMMERCE

International Trade Administration

[A-412-803]

Industrial Nitrocellulose from the United Kingdom: Rescission of Antidumping Duty Administrative Review

AGENCY: Import Administration, International Trade Administration, Department of Commerce.

ACTION: Notice of Rescission of Antidumping Duty Administrative Review.

EFFECTIVE DATE: April 11, 2003.

FOR FURTHER INFORMATION CONTACT: Michele Mire or Howard Smith, AD/CVD Enforcement, Office 4, Group II, Import Administration, International Trade Administration, U.S. Department of Commerce, 14th Street and Constitution Avenue, NW, Washington, DC 20230; telephone: (202) 482-4711 and (202) 482-5193, respectively.

SUPPLEMENTARY INFORMATION:

Background

On July 1, 2002, the Department of Commerce (the Department) published a notice of opportunity to request an administrative review of the antidumping duty order on industrial nitrocellulose from the United Kingdom covering the period July 1, 2001 through June 30, 2002 (67 FR 44172, 44173).

On August 19, 2002, pursuant to requests by petitioner, Green Tree Chemical Technologies, Inc. (Green Tree), and respondent, Imperial Chemical Industries PLC (ICI), the Department initiated an administrative review of the antidumping duty order on industrial nitrocellulose from the United Kingdom for the period July 1, 2001 through June 30, 2002 (67 FR 55000, August 27, 2002). On October 1, 2002, Green Tree withdrew its request for an administrative review. On March 20, 2003, ICI withdrew its request for an administrative review.

Rescission of Review

Section 351.213(d)(1) of the Department's regulations provides that a party that requests an administrative review may withdraw the request within 90 days after the date of publication of the notice of initiation of the requested administrative review. Section 351.213(d)(1) also provides that the Department may extend the 90-day time limit for parties to withdraw their requests that the Department conduct administrative reviews. On October 1, 2002, and March 20, 2003, Green Tree and ICI, respectively, submitted letters withdrawing their requests that the Department conduct an administrative review of the period July 1, 2001 through June 30, 2002. Although ICI withdrew its request for the review after the 90-day period had expired, the Department is rescinding the administrative review of the antidumping duty order on industrial nitrocellulose from the United Kingdom for the period July 1, 2001 through June 30, 2002, because both parties who requested administrative reviews have withdrawn their requests, and it is otherwise reasonable to rescind the review. This action is consistent with the Department's practice. See e.g., Frozen Concentrated Orange Juice From Brazil; Final Results and Partial Rescission of Antidumping Duty Administrative Review, 67 FR 40913 (June 14, 2002) where, pursuant to a request filed after the 90-day deadline, the Department rescinded the review with respect to one respondent because the review of that respondent had not progressed beyond a point where it would have been unreasonable to grant the request for rescission.

This notice is in accordance with section 777(i)(1) of the Tariff Act of 1930, as amended, and 19 CFR 351.213(d)(4).

Dated: March 28, 2003.
Holly A. Kuga,
Acting Deputy Assistant Secretary for Import Administration.

[FR Doc. 03-8938 Filed 4-10-03; 8:45 am]

BILLING CODE 3510-DS-S